DEPARTMENT OF COMMERCE

Foreign-Trade Zones Board

[Order No. 2065]

Production Authority Not Approved; PBR, Inc. d/b/a SKAPS Industries; Foreign-Trade Zone 26; (Non-Woven Geotextiles); Athens, Georgia

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Georgia Foreign-Trade Zone, Inc., grantee of FTZ 26, has requested production authority on behalf of PBR, Inc. d/b/a SKAPS Industries, located in Athens, Georgia (B-22-2014, docketed March 12, 2014);

Whereas, notice inviting public comment has been given in the Federal Register (79 FR 15725-15726, March 21, 2014; 79 FR 17500, March 28, 2014) and the application has been processed pursuant to the FTZ Act and the Board's regulations; and,

Whereas, the Board adopts the findings and recommendations of the examiner's report, and finds that the requirements of the FTZ Act and the Board's regulations have not been satisfied;

Now, therefore, the Board hereby does not approve the application requesting production authority under zone procedures within FTZ 26 at the facility of PBR, Inc. d/b/a SKAPS Industries, located in Athens, Georgia, as described in the application and Federal Register notice.

Dated: October 25, 2018.
Gary Taverman,
Deputy Assistant Secretary for Antidumping and Countervailing Duty Operations, performing the non-exclusive functions and duties of the Assistant Secretary for Enforcement and Compliance Alternate Chairman, Foreign-Trade Zones Board.

[FR Doc. 2018-23796 Filed 10-30-18; 8:45 am]

BILLING CODE 3510-DS-P